ENVIRONMENTAL PROTECTION AGENCY

[CERCLA-02-2023-2024; FRL-11050-01-R2]

Proposed CERCLA Cost Recovery Settlement for the Marko Engraving & Art Corp. Site, Located at 429-439 Fairview Avenue, Fairview, New Jersey

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement (“Settlement”) pursuant to CERCLA with Ljubow Melnitschenko (“Settling Party”) for the Marko Engraving & Art Corp. Site (“Site”), located at 429-439 Fairview Avenue, Fairview, New Jersey.

DATES: Comments must be submitted on or before July 26, 2023.

ADDRESSES: The proposed settlement is available for public inspection at the following website: https://semspub.epa.gov/src/document/02/677072. Requests for copies of the proposed Settlement and submission of comments must be via electronic mail to Olga Pappas at pappas.olga@epa.gov. Comments should reference the Marko Engraving & Art Corp. Site, Index No. CERCLA-02-2023-2024. For those unable to communicate via electronic mail, please contact Olga Pappas at the telephone number identified below.

FOR FURTHER INFORMATION CONTACT: Olga Pappas, Assistant Regional Counsel, Office of Regional Counsel, U.S. Environmental Protection Agency, 290 Broadway, 17th Floor, New York, NY 10007-1866. Email: pappas.olga@epa.gov. Telephone: 212-637-3138.

SUPPLEMENTARY INFORMATION: Under the proposed Settlement, Settling Party will pay $225,000 to the EPA Hazardous Substance Superfund to resolve her potential liability for EPA's past response costs paid in connection with the Site. Payment is to be made upon Settling Party selling three properties. Settling Party will pay EPA from the proceeds of the sales. In exchange for Settling Party's payment, the Settlement provides a covenant not to sue or take administrative action against Settling Party, and will release the Federal lien on the Site property arising under section 107(l) of CERCLA, 42 U.S.C. 9607(l).

For thirty (30) days following the date of publication of this notice, EPA will receive written comments relating to the proposed Settlement. EPA will consider all comments received and may modify or withdraw its consent to the proposed Settlement if comments received disclose facts or considerations that indicate that the proposed Settlement is inappropriate, improper, or inadequate. EPA's response to any comments received will be available for public inspection at EPA Region 2, 290 Broadway, New York, New York 10007-1866.

Pasquale Evangelista,
Director, Superfund & Emergency Management Division, U.S. Environmental Protection Agency, Region 2.

[FR Doc. 2023-13525 Filed 6-23-23; 8:45 am]

BILLING CODE 6560-50-P